DEPARTMENT OF HEALTH AND HUMAN SERVICES

Food and Drug Administration

[Docket Nos. FDA-2011-M-0323, FDA-2011-M-0256, FDA-2011-M-0257, FDA-2011-M-0241, FDA-2011-M-0284, FDA-2011-M-0295, FDA-2011-M-0300, FDA-2011-M-0296, FDA-2011-M-0342, FDA-2011-M-0338, FDA-2011-M-0343, FDA-2011-M-0348, FDA-2011-M-0349, FDA-2011-M-0430, FDA-2011-M-0431, FDA-2011-M-0445, FDA-2011-M-0470, FDA-2011-M-0472, FDA-2011-M-0502, and FDA-2011-M-0503]

Medical Devices; Availability of Safety and Effectiveness Summaries for Premarket Approval Applications

AGENCY: Food and Drug Administration, HHS.

ACTION: Notice.

SUMMARY: The Food and Drug Administration (FDA) is publishing a list of premarket approval applications (PMAs) that have been approved. This list is intended to inform the public of the availability of safety and effectiveness summaries of approved PMAs through the Internet and the Agency's Division of Dockets Management.

ADDRESSES: Submit written requests for copies of summaries of safety and effectiveness data to the Division of Dockets Management (HFA-305), Food and Drug Administration, 5630 Fishers Lane, rm. 1061, Rockville, MD 20852. Please cite the appropriate docket number as listed in table 1 of this document when submitting a written request. See the SUPPLEMENTARY INFORMATION section for electronic access to the summaries of safety and effectiveness.

FOR FURTHER INFORMATION CONTACT: Nicole Wolanski, Center for Devices and Radiological Health, Food and Drug Administration, 10903 New Hampshire Ave., Bldg. 66, rm. 1650, Silver Spring, MD 20993, 301-796-6570.

SUPPLEMENTARY INFORMATION:

I. Background

In the Federal Register of January 30, 1998 (63 FR 4571), FDA published a final rule that revised 21 CFR 814.44(d) and 814.45(d) to discontinue individual publication of PMA approvals and denials in the Federal Register. Instead, the Agency now posts this information on the Internet on FDA's home page at http://www.fda.gov.

In accordance with section 515(d)(4) and (e)(2) of the Federal Food, Drug, and Cosmetic Act (the FD&C Act) (21 U.S.C. 360e(d)(4) and (e)(2)), notification of an order approving, denying, or withdrawing approval of a PMA will continue to include a notice of opportunity to request review of the order under section 515(g) of the FD&C Act. The 30-day period for requesting reconsideration of an FDA action under § 10.33(b) (21 CFR 10.33(b)) for notices announcing approval of a PMA begins on the day the notice is placed on the Internet. Section 10.33(b) provides that FDA may, for good cause, extend this 30-day period. Reconsideration of a denial or withdrawal of approval of a PMA may be sought only by the applicant; in these cases, the 30-day period will begin when the applicant is notified by FDA in writing of its decision.

The regulations provide that FDA publish a quarterly list of available safety and effectiveness summaries of PMA approvals and denials that were announced during that quarter. The following is a list of approved PMAs for which summaries of safety and effectiveness were placed on the Internet from April 1, 2011, through June 30, 2011. There were no denial actions during this period. The list provides the manufacturer's name, the product's generic name or the trade name, and the approval date.

Table 1—List of Safety and Effectiveness Summaries for Approved PMAs Made Available From April 1, 2011, Through June 30, 2011
PMA No./Docket No. | Applicant | Trade name | Approval date
P050050 FDA-2011-M-0323 | Small Bone Innovations, Inc | Scandinavian total ankle replacement system | May 27, 2009.
P060004(S1) FDA-2011-M-0256 | Carl Zeiss Meditec, Inc | Meditec MEL 80 excimer laser system | March 28, 2011.
P100040 FDA-2011-M-0257 | Medtronic Vascular | Valiant thoracic stent graft system | April 1, 2011.
H100002 FDA-2011-M-0241 | NeuroVasx, Inc | cPAX aneurysm treatment system | April 1, 2011.
P100018 FDA-2011-M-0284 | Chestnut Medical Technologies, Inc | Pipeline embolization device | April 6, 2011.
P100034 FDA-2011-M-0295 | NovoCure, Ltd | NovoCure Ltd.'s NovoTTF-100A treatment kit | April 8, 2011.
P100020 FDA-2011-M-0300 | Roche Molecular Systems, Inc | cobas HPV test | April 19, 2011.
P100029 FDA-2011-M-0296 | St. Jude Medical, Inc | Trifecta heart valve | April 20, 2011.
P100023 FDA-2011-M-0342 | Boston Scientific Corp | ION paclitaxel-eluting coronary stent system (monorail and over-the-wire systems) | April 22, 2011.
P930014 (S45) FDA-2011-M-0338 | Alcon Research, Ltd | AcrySof toric IOL and AcrySof IQ toric IOL | May 3, 2011.
P040012 (S34) FDA-2011-M-0343 | Abbott Vascular, Inc | RX Acculink carotid stent system | May 6, 2011.
P090028 FDA-2011-M-0348 | Ortho-Clinical Diagnostics, Inc | Vitros immunodiagnostic products HBeAg reagent pack/products HBeAg calibrator/products HBe controls | May 11, 2011.
P100017 FDA-2011-M-0349 | Abbott Molecular, Inc | Abbott RealTime HCV, Abbott RealTime HCV amplification reagent kit, Abbott RealTime HCV control kit, Abbott RealTime HCV calibrator kit, and optional UNG Uracil-N-glycosylase | May 17, 2011.
P100013 FDA-2011-M-0430 | Cordis Corp | Cordis ExoSeal vascular closure device | May 19, 2011.
P070015 (S54) FDA-2011-M-0431 | Abbott Vascular | Xience nano everolimus-eluting coronary stent system and Promus everolimus-eluting coronary stent system | May 24, 2011.
P100014 FDA-2011-M-0445 | Oceana Therapeutics, Inc | Solesta injectable gel | May 27, 2011.
P090002 FDA-2011-M-0470 | Depuy Orthopaedics, Inc | Pinnacle complete acetabular hip system | June 13, 2011.
P100027 FDA-2011-M-0472 | Ventana Medical Systems, Inc | INFORM HER2 dual ISH DNA probe cocktail | June 14, 2011.
P100031 FDA-2011-M-0502 | Roche Diagnostics Corp | Elecsys anti-HBc immunoassay and Elecsys PreciControl anti-HBc for use on the modular Analytics E170 immunoassay analyzer | June 22, 2011.
P100032 FDA-2011-M-0503 | Roche Diagnostics Corp | Elecsys anti-HBc immunoassay and Elecsys PreciControl anti-HBc for use on the Elecsys 2010 immunoassay analyzer | June 27, 2011.

II. Electronic Access

Persons with access to the Internet may obtain the documents at http://www.fda.gov/cdrh/pmapage.html.

Dated: July 29, 2011.
Nancy K. Stade,
Deputy Director for Policy, Center for Devices and Radiological Health.

[FR Doc. 2011-19734 Filed 8-3-11; 8:45 am]

BILLING CODE 4160-01-P